SECURITIES AND EXCHANGE COMMISSION

[Release No. IC-27689]

Notice of Applications for Deregistration Under Section 8(f) of the Investment Company Act of 1940

January 26, 2007.

The following is a notice of applications for deregistration under section 8(f) of the Investment Company Act of 1940 for the month of January, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on February 21, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Boston Advisors Trust [File No. 811-9675]

Summary: Applicant seeks an order declaring that it has ceased to be an investment company. On June 18, 2005, applicant made a liquidating distribution to its shareholders, based on net asset value. Expenses of $32,088 incurred in connection with the liquidation were paid by applicant.

Filing Date: The application was filed on January 11, 2007.

Applicant's Address: One Federal St., Boston, MA 02110.

Credit Suisse New York Municipal Fund [File No. 811-4964]

Summary: Applicant seeks an order declaring that it has ceased to be an investment company. On October 17, 2006, applicant made a liquidating distribution to its shareholders, based on net asset value. Expenses of $6,000 incurred in connection with the liquidation were paid by Credit Suisse Asset Management, LLC, applicant's investment adviser. Applicant has retained $9,535 in cash for the payment of remaining liquidation expenses.

Filing Date: The application was filed on December 27, 2006.

Applicant's Address: C/O Credit Suisse Asset Management, LLC, Eleven Madison Ave., New York, NY 10010.

Morgan Stanley Global Utilities Fund [File No. 811-7119]

Summary: Applicant seeks an order declaring that it has ceased to be an investment company. On December 8, 2006, applicant transferred its assets to Morgan Stanley Utilities Fund, based on net asset value. Expenses of approximately $272,500 incurred in connection with the reorganization were paid by Morgan Stanley Investment Advisors Inc., applicant's investment adviser.

Filing Dates: The application was filed on December 7, 2006, and amended on January 18, 2007.

Applicant's Address: Morgan Stanley Investment Advisors Inc., 1221 Avenue of the Americas, New York, NY 10020.

Morgan Stanley Balanced Income Fund [File No. 811-7243]

Morgan Stanley Income Builder Fund [File No. 811-7575]

Summary: Each applicant seeks an order declaring that it has ceased to be an investment company. On September 15, 2006, each applicant transferred its assets to Morgan Stanley Balanced Fund, based on net asset value. Expenses of approximately $186,000 and $181,000, respectively, incurred in connection with the reorganizations were paid by Morgan Stanley Investment Advisors Inc., applicants' investment adviser.

Filing Dates: The applications were filed on November 20, 2006, and amended on January 18, 2007.

Applicants' Address: Morgan Stanley Investment Advisors Inc., 1221 Avenue of the Americas, New York, NY 10020.

UMB Scout Money Market Fund, Inc. [File No. 811-3528]

UMB Scout Tax-Free Money Market Fund, Inc. [File No. 811-3556]

UMB Scout Stock Fund, Inc. [File No. 811-3557]

UMB Scout Bond Fund, Inc. [File No. 811-3558]

UMB Scout WorldWide Fund, Inc. [File No. 811-7472]

UMB Scout Kansas Tax-Exempt Bond Fund, Inc. [File No. 811-8513]

Summary: Each applicant seeks an order declaring that it has ceased to be an investment company. Between April 1, 2005 and April 12, 2005, each applicant transferred its assets to corresponding series of UMB Scout Funds, based on net asset value. Expenses of approximately $15,250 incurred in connection with each reorganization were paid by Scout Investment Advisors, Inc., applicants' investment adviser.

Filing Date: The applications were filed on December 22, 2006.

Applicants' Address: 1010 Grand Blvd., Kansas City, MO 64106.

UMB Scout Balanced Fund, Inc. [File No. 811-7323]

Summary: Applicant seeks an order declaring that it has ceased to be an investment company. On December 20, 2004, applicant made a liquidating distribution to its shareholders, based on net asset value. Expenses of approximately $15,250 incurred in connection with the liquidation were paid by Scout Investment Advisors, Inc., applicant's investment adviser.

Filing Date: The application was filed on December 22, 2006.

Applicant's Address: 1010 Grand Blvd., Kansas City, MO 64106.

The Jundt Growth Fund, Inc. [File No. 811-6317]

Jundt Funds, Inc. [File No. 811-9128]

American Eagle Funds, Inc. [File No. 811-9699]

Summary: Each applicant seeks an order declaring that it has ceased to be an investment company. On November 30, 2006, each applicant made a liquidating distribution to its shareholders, based on net asset value. Expenses of approximately $61,200, $176,549 and $47,624, respectively, incurred in connection with the liquidations were paid by each applicant.

Filing Date: The applications were filed on December 13, 2006.

Applicants' Address: 301 Carlson Parkway, Suite 120, Minnetonka, MN 55305.

Bremer Investment Funds, Inc. [File No. 811-7919]

Summary: Applicant seeks an order declaring that it has ceased to be an investment company. On November 13, 2006, applicant transferred its assets to T. Rowe Price Blue Chip Growth Fund, Inc. and T. Rowe Price New Income Fund, Inc., based on net asset value. Expenses of $179,475 incurred in connection with the reorganization were paid by Bremer Trust, National Association, applicant's investment adviser.

Filing Date: The application was filed on December 15, 2006.

Applicant's Address: 445 Minnesota St., Suite 2000, St. Paul, MN 55101.

Putnam Managed High Yield Trust [File No. 811-7658]

Summary: Applicant, a closed-end investment company, seeks an order declaring that it has ceased to be an investment company. On October 30, 2006, applicant transferred its assets to Putnam High Yield Trust, based on net asset value. Expenses of $249,360 incurred in connection with the reorganization were paid by applicant.

Filing Dates: The application was filed on November 8, 2006, and amended on December 22, 2006.

Applicant's Address: One Post Office Sq., Boston, MA 02109.

Oppenheimer Total Return Bond Fund [File No. 811-21268]

Summary: Applicant seeks an order declaring that it has ceased to be an investment company. On March 24, 2006, applicant transferred its assets to Oppenheimer Core Bond Fund, a series of Oppenheimer Integrity Funds, based on net asset value. Expenses of $35,663 incurred in connection with the reorganization were paid by applicant.

Filing Dates: The application was filed on August 9, 2006, and amended on January 11, 2007 and January 23, 2007.

Applicant's Address: 6803 S. Tucson Way, Centennial, CO 80112.

Tep Fund, Inc. [File No. 811-3609]

Summary: Applicant, a closed-end investment company, seeks an order declaring that it has ceased to be an investment company. On November 28, 2006, applicant merged with Tep Acquisition, Inc., a newly formed New York corporation, with applicant being the surviving entity. As a result of the reorganization, applicant has two beneficial shareholders and will continue to operate as a private investment fund in reliance on section 3(c)(1) of the Act. Applicant is not presently making a public offering of its securities and does not propose to make a public offering.

Filing Dates: The application was filed on November 29, 2006, and amended on January 11, 2007 and January 25, 2007.

Applicant's Address: 1675 Broadway, 16th Floor, New York, NY 10019.

Credit Suisse Alternative Capital Event Driven Master Fund, LLC [811-21738]

Credit Suisse Alternative Capital Relative Value Master Fund, LLC [811-21740]

Credit Suisse Alternative Capital Tactical Trading Master Fund, LLC [811-21741]

Summary: Each applicant, a closed-end investment company, seeks an order declaring that it has ceased to be an investment company. Each applicant serves as a master fund for two feeder funds in a master-feeder structure. Each applicant is beneficially owned by an affiliate of applicants' investment adviser, who is the sole unitholder of the respective feeder funds. Applicants are not presently making a public offering of their securities and do not propose to make a public offering. Each applicant will continue to operate as a private investment vehicle in reliance on section 3(c)(1) of the Act.

Filing Date: The applications were filed on January 3, 2007.

Applicants' Address: 11 Madison Ave., 13th Floor, New York, NY 10010.

Credit Suisse Alternative Capital Relative Value Fund, LLC [811-21660]

Summary: Applicant, a closed-end investment company, seeks an order declaring that it has ceased to be an investment company. Applicant has one remaining shareholder, who is an affiliate of applicant's investment adviser. Applicant is not presently making a public offering of its securities and does not propose to make a public offering. Applicant will continue to operate as a private investment fund in reliance on section 3(c)(1) of the Act.

Filing Date: The application was filed on January 3, 2007.

Applicant's Address: 11 Madison Ave., 13th Floor, New York, NY 10010.

Credit Suisse Alternative Capital Relative Value Institutional Fund, LLC [811-21642]

Credit Suisse Alternative Capital Tactical Trading Institutional Fund, LLC [811-21643]

Credit Suisse Alternative Capital Event Driven Institutional Fund, LLC [811-21645]

Credit Suisse Alternative Capital Event Driven Fund, LLC [811-21659]

Credit Suisse Alternative Capital Tactical Trading Fund, LLC [811-21661]

Summary: Each applicant, a closed-end investment company, seeks an order declaring that it has ceased to be an investment company. Each applicant conducted a tender offer, which provided that all unitholders who tendered their units would receive the applicant's per unit net asset value as of December 29, 2006. As of December 29, 2006, each applicant had one remaining unitholder, an affiliate of the applicants' investment adviser. Applicants are not presently making a public offering of their securities and do not propose to make a public offering. Each applicant will continue to operate as a private investment fund in reliance on section 3(c)(1) of the Act.

Filing Date: The applications were filed on January 3, 2007.

Applicant's Address: 11 Madison Ave., 13th Floor, New York, NY 10010.

Travelers Series Trust [File No. 811-6465]

Summary: Applicant seeks an order declaring that it has ceased to be an investment company. On April 26, 2006 and April 27, 2006, Applicant made distributions of its assets to its shareholders in connection with its merger with various series of Met Investors Series Trust and Metropolitan Series Fund, Inc. Expenses of $1,188,978.67 were incurred in connection with the merger. These expenses were paid by each series of the trust on a pro rata basis based on total net assets, except for the U.S. Government Securities Portfolio, whose expenses were paid by the surviving portfolio, the U.S. Government Portfolio, a series of the Metropolitan Series Fund, Inc.

Filing Dates: The application was filed on October 3, 2006, and amended on January 10, 2007.

Applicant's Address: One Cityplace, Hartford, CT 06103.

Capital Appreciation Fund [File No. 811-3429]

Summary: Applicant seeks an order declaring that it has ceased to be an investment company. On April 26, 2006, Applicant made a distribution of its assets to its shareholders in connection with its merger with Janus Capital Appreciation Portfolio, a series of Met Investors Series Trust. Expenses of $200,146.06 were incurred in connection with the merger. These expenses were paid by Metropolitan Life Insurance Company and/or its affiliates. Metropolitan Life Insurance Company is an affiliate of the trust's investment adviser.

Filing Date: The application was filed on October 3, 2006.

Applicant's Address: One Cityplace, Hartford, CT 06103.

High Yield Bond Trust [File No. 811-3428]

Summary: Applicant seeks an order declaring that it has ceased to be an investment company. On April 26, 2006, Applicant made a distribution of its assets to its shareholders in connection with its merger with Western Asset Management High Yield Bond Portfolio, a series of Metropolitan Series Fund, Inc. Expenses of $58,910.27 were incurred in connection with the merger. These expenses were paid by Metropolitan Life Insurance Company and/or its affiliates. Metropolitan Life Insurance Company is an affiliate of the trust's investment adviser.

Filing Date: The application was filed on October 3, 2006.

Applicant's Address: One Cityplace, Hartford, CT 06103.

Managed Assets Trust [File No. 811-3568]

Summary: Applicant seeks an order declaring that it has ceased to be an investment company. On April 26, 2006, Applicant made a distribution of its assets to its shareholders in connection with its merger with Legg Mason Partners Managed Assets Portfolio, a series of Met Investors Series Trust. Expenses of $51,670.16 were incurred in connection with the merger. These expenses were paid by Metropolitan Life Insurance Company and/or its affiliates. Metropolitan Life Insurance Company is an affiliate of the trust's investment adviser.

Filing Date: The application was filed on October 3, 2006.

Applicant's Address: One Cityplace, Hartford, CT 06103.

Money Market Portfolio [File No. 811-3274]

Summary: Applicant seeks an order declaring that it has ceased to be an investment company. On April 26, 2006, Applicant made a distribution of its assets to its shareholders in connection with its merger with BlackRock Money Market Portfolio, a series of Metropolitan Series Fund, Inc. Expenses of $74,214.31 were incurred in connection with the merger. These expenses were paid by the Money Market Portfolio.

Filing Date: The application was filed on October 3, 2006.

Applicant's Address: One Cityplace, Hartford, CT 06103.

Financial Investors Variable Insurance Trust [File No. 811-10215]

Summary: Financial Investors Variable Insurance Trust seeks an order declaring that it has ceased to be an investment company. On February 22, 2006, applicant made a liquidating distribution to its shareholders, based on net asset value. Expenses of $12,009 incurred in connection with the liquidation were paid by First Tennessee Bank N.A., applicant's sponsor.

Filing Dates: The application was filed on September 22, 2006 and amended on November 30, 2006.

Applicant's Address: Financial Investors Variable Insurance Trust, 1625 Broadway, Suite 2200, Denver, CO 80202.

For the Commission, by the Division of Investment Management, pursuant to delegated authority.
Florence E. Harmon,
Deputy Secretary.

[FR Doc. E7-1718 Filed 2-1-07; 8:45 am]

BILLING CODE 8010-01-P